DEPARTMENT OF STATE

[Public Notice 8397]

Bureau of European and Eurasian Affairs (EUR) Request for Proposals for the Fundraising, Construction, Development, Organization, Management, Disassembly and Removal of a USA Pavilion/Exhibition at Universal Expo Milan Italy 2015, Hereafter Referred to as Milan Expo 2015

Key Dates

Application Deadline: Sunday, Sept 15, 2013.

Executive Summary

The Bureau of European and Eurasian Affairs (EUR) of the Department of State requests proposals from private U.S. individuals, firms, associations and organizations (for profit and non-profit) for the fundraising, construction, development, organization, and management, and disassembly and removal of a USA Pavilion/exhibition at Milan Expo 2015. The USA Pavilion will be situated on a 2790 square meter plot with a building footprint no more than 70% of the plot size.

The Department will issue a “letter of intent” to the selected organization authorizing that organization to proceed with fundraising to complete the USA Pavilion project. The letter will include guidelines on fundraising to be followed by the selected organization and will establish a deadline for completion of all fundraising activities. Note that all prospective donors must be vetted with the Department of State for potential conflicts of interest.

Cost for a representative USA Pavilion/exhibition for Milan Expo 2015 is estimated to range between $25 million and $45 million and will be the sole responsibility of the selected organization.

The Department of State is not now authorized, and does not in the future intend to seek authorization from the U.S. Congress, to provide federal funding for any aspect of the USA Pavilion/exhibition at Milan Expo 2015. The successful applicant will be responsible for all costs associated with all aspects of the USA Pavilion including its design, development, construction, staffing, management and dismantling and removal of the exhibit at the end of the Expo, as well as all support for the U.S. Commissioner General to be appointed by the President of the United States. The U.S. Pavilion shall be considered on loan to the U.S. Government, and the successful applicant shall be solely responsible for the disposition of the USA Pavilion Exhibits at the conclusion of Milan Expo 2015. The aforementioned loan shall be treated as a gift to the U.S. Government.

The successful applicant must be able to demonstrate to the U.S. Department of State that it can raise the funds necessary to complete the project. Only after the applicant is able to demonstrate that all funding required for this project will be in hand will the Department of State sign a Memorandum of Understanding (MOU) with that applicant, sign a Participation Contract with the Expo organizing body, and appoint a Commissioner General. Proposals from non-U.S. citizens or non-U.S. firms or organizations shall be deemed ineligible for consideration.

Authority

Overall authority for Department of State support for U.S. participation in international expositions is contained in Section 102(a)(3) of the Mutual Educational and Cultural Exchange Act of 1961, as amended (22 U.S.C. 2452(a)(3), also known as the Fulbright-Hays Act. The purpose of the Act is “to enable the Government of the United States to increase mutual understanding between the people of the United States and the people of other countries...to strengthen the ties which unite us with other nations by demonstrating the educational and cultural interests, developments, and achievements of the people of the United States and other nations...and thus to assist in the development of friendly, sympathetic and peaceful relations between the United States and the other countries of the world.” Pursuant to this authority, on a one-time basis, the Secretary of State has delegated authority for this particular Expo to the Bureau of European and Eurasian Affairs (EUR), which will be responsible for coordinating U.S. participation in the Milan Expo 2015. Consequently, EUR will represent the U.S. Government in dealings with the organizers of the Milan Expo 2015.

Background

The Government of Italy has invited the United States to participate in the Milan Expo 2015 and the U.S. Government has advised the Italian Government of its intention to participate with an official USA Pavilion assuming identification of a viable private sector partner and successful fundraising efforts. Milan Expo 2015 will be held on specially constructed exhibition grounds. The Expo opens on May 1, 2015 and closes on October 31, 2015.

“Expo 2015 Milano Italy” is a large-scale, universal exposition (world's fair) registered (sanctioned) by the Bureau of International Expositions (BIE). The BIE is an international treaty organization established to sanction and monitor international exhibitions of long duration (over three weeks) and significant scale.

Invitations to world's fairs are extended from the host government to other governments. The United States is not a member of the BIE, and the U.S. Commissioner General, therefore, will not be a formal member of the Steering Committee of the College of Commissioners General for Milan Expo 2015.

With a projected 20 million visitors, Milan Expo 2015 offers an excellent opportunity to inform, inspire and persuade foreign audiences about the United States, its people and values, and to promote broad U.S. commercial interests around the world. U.S. participation in Milan Expo 2015 will confirm the strength and importance of U.S.-Italy bilateral ties and promote mutual understanding between Americans and foreign visitors.

Content

Milan Expo 2015 will be a stage on which participants from all over the world showcase the most innovative solutions to the problems of the Expo's theme of “Feeding the Planet, Energy for Life.”

“The Expo will be the largest worldwide event to discuss issues related to food production, availability, nutrition and the culture of food.”

The theme for the USA Pavilion Exhibition should be directly linked to the overall theme of the Expo. EUR would welcome proposals for an exhibition to showcase American expertise, best practices and trends in some or all of the following areas:

Food Security

Sustainable Intensification of Agriculture

The Role of Technology and Innovation in Food Production and

Environmental Sustainability

Food Security and Global Trade: Economic Systems, Markets and Rules

Improving Efficiency of Food Systems and Reducing Food Loss

The Role of Human Labor

Nutrition/Eradicating Hunger

Food Safety

Food and Health

Research and Technology

Food Education

Sustainability

Biodiversity

Technologies, Nature and Traditions

Water

Energy

Food, Peace And Culture

Food Security as a Resource for Peace

The Role of Women in Agriculture

Food in Art, Culture, and Social and Regional Trends

Community Driven Approaches/Contributions to Food Security

Energy For Life

Bio-energy

Technologies Driving U.S. Energy Production

U.S. Energy Policy

The design concept for the USA Pavilion and exhibition should appeal to a general, non-expert audience.

The USA Pavilion at Expo 2015 Milan will be an official representation of the United States. EUR, therefore, must ensure that the U.S. exhibition is nonpolitical in nature, of the highest possible quality, balanced and representative of the diversity of American political, social and cultural life. The USA Pavilion and exhibition must maintain the highest level of scholarly integrity and meet the highest standards of artistic achievement and academic excellence.

The USA Pavilion will be used to promote U.S. commercial interests as well as highlight outstanding U.S. cultural, scientific, educational and artistic achievement. The proposed design for the USA Pavilion should include functional space for four purposes: an exhibition area(s); a food demonstration or exhibition/gift shop area; a VIP hospitality area, and administrative/staff area.

Further information on the Expo 2015 Milan can be found at the official expo Web site: http://en.expo2015.org.

Student Ambassadors

Proposals must include a plan for funding and managing student “ambassadors” (guides) at the USA Pavilion. All student ambassadors must be U.S. Citizens, from a diverse set of backgrounds and U.S. States, and fluent in Italian with two or more years of college-level language training or equivalent ability gained through family or residence in Italy. Experience has shown that it is highly advantageous to have a student ambassador program run in conjunction with a U.S.-based college or university.

Funding Limitations

Section 204 of Public Law 106-113 (22 U.S.C. 2452b) limits the support the Department of State may provide for U.S. participation in international expositions registered by the Bureau of International Expositions (BIE). This includes Milan Expo 2015. This Request for Proposals is intended to help identify a private U.S. individual, firm or organization interested in, and capable of providing a complete pavilion/exhibit at Milan Expo 2015 as a gift to the United States Government. The Department of State is not now authorized, and does not in the future intend to seek authorization from the U.S. Congress, to provide federal funding for any aspect of the U.S. exhibition at the Milan Expo 2015.

Costs

The USA Pavilion will be situated on a 2,790 square meter plot with a building footprint no more than 70% of the plot size. Excluding the area required for setbacks, the total lot size would be 2,032 square meters. The total green and open area would be at least 1,367 square meters. The building can be no more than 1,423 square meters, and the USA Pavilion could be comprised of one or more buildings. The building(s) may be enclosed or open-air. Light structures are encouraged, and the building(s) could have two floors. Overall building height—that is, both floors together—must be less than 12 meters. The height limit for any additional architectural elements (such as skylights, roof elements, vertical connections to the roof, sunscreens, signals, etc.) is 17 meters and roofs may be used as reception or exhibition spaces.

It is estimated that a representative USA Pavilion in that space will cost between $25 million and $45 million, depending on final design, construction and programming).

Costs would include, but not be limited to:

Design and construction of a building to house the exhibition and provide an appealing welcome on the exterior facade; provide exterior landscaping; incorporate appropriate internal and external crowd control features;

Design of the exhibition; development of the story line;

Raising all necessary funds;

Production of exhibits, audio-visual materials, films, DVDs, videos, posters and other promotional materials needed for the exhibit;

Promote and advertise the USA Pavilion;

Manage all administrative, personnel and exhibit costs, including salaries, benefits, staff housing expenses, contracting and supplier costs and consulting fees as well as funding associated with guides, escorts, and protocol gifts;

Transport, travel, insurance, postage and shipping fees;

Security, development and implementation of a security program for the USA Pavilion in consultation with the State Department and appropriate Italian authorities;

Tear-down, including removal of exhibits, and return of the pavilion lot in the condition required by the Expo organizers;

Cultural and informational programs associated with the exhibition, including, but not limited to, production of U.S. National Day activities;

Funding all expenses associated with the U.S. Commissioner General; and,

Creation and staffing of facilities devoted to hosting all VIPs visiting the USA Pavilion.

Expo Guidelines

Interested parties may obtain information regarding the

General Regulations and Expo Guidelines from: Barry Levin, Coordinator, Milan Expo 2015, Room 3249, Bureau of European and Eurasian Public Affairs, U.S. Department of State, Washington, DC 20520, Tel. (202) 647-8801, Email: levinbj@state.gov.

Application and Submission Information

Proposals

Proposals should be provided in a narrative of no more than twenty (20) pages, single-spaced, plus a detailed budget with necessary attachments and/or exhibits. The narrative and additional documents should outline, in as much detail as possible, plans for providing a pavilion and exhibition for the United States Government at Milan Expo 2015.

Proposals should address the following:

Willingness to adhere to the General Regulations of Milan Expo 2015 as stipulated by the Expo organizers, including restrictions and limitations related to construction;

Prior experience working with exhibitions and on the proposed theme;

An institutional record of successful fundraising, and responsible fiscal management;

Detailed fundraising plan listing intended individuals and institutions to be approached, description of donation and sample donation agreement;

Detailed budget showing breakdown of budget items required for each aspect of the project development and implementation;

Timeline detailing each step in the fundraising, design, construction, and breakdown of the USA Pavilion as well as the development of the USA Pavilion content;

Clear concept for the exhibit plan and storyline;

Experienced staff with language facility, and;

Commitment to consult closely with and follow the guidance of the Bureau of European And Eurasian Public Affairs (EUR/PD) and U.S. diplomatic officers in Italy.

Proposals should state clearly that the design concept and all materials developed specifically for the project will be subject to review and approval by EUR/PD.

Eligible applicants: Applications may be submitted by public and private organizations (non-profit and profit). Non-profit organizations must meet the provisions described in Internal Revenue Code section 26 U.S.C. 501(c)(3). Non-profit organizations must have nonprofit status with the IRS at the time of application. If your organization received nonprofit status from the IRS within the past four years, you must submit the necessary documentation to verify nonprofit status. Failure to do so will cause your proposal to be declared technically ineligible.

Requesting an Application Package

Please contact the Office of European and Eurasian Public Diplomacy, EUR/PD, Room 3249, U.S. Department of State, 2201 C Street NW., Washington, DC, 20520, tel.: 202-647-8801; fax: 202-647-3614; or email LevinBJ@state.gov (with copies to BerbenaGF@state.gov and PetersenML@state.gov) for assistance.

Please refer to “EUR/PD-Milan Expo 2015” when making your request.

General Information Contact: Barry Levin, Coordinator, telephone: 202-747-8801, fax: 202-647-3614 or email: levinbj@state.gov.

Application Deadline and Methods of Submission:

Application Deadline Date: Midnight, Sunday, September 15.

Reference: EUR/PD-Milan Expo 2015.

Submitting Applications

Due to heightened security measures, proposal submissions must be sent via a nationally recognized overnight delivery service (i.e., DHL, Federal Express, UPS, Airborne Express, or U.S. Postal Service Express Overnight Mail, etc.)and be shipped no later than the above deadline. The delivery services used by applicants must have in-place, centralized shipping identification and tracking systems that may be accessed via the Internet and delivery people who are identifiable by commonly recognized uniforms and delivery vehicles. Proposals shipped on or before the above deadline but received at EUR more than seven days after the deadline will be ineligible for further consideration under this competition. Proposals shipped after the established deadlines are ineligible for consideration under this competition. It is each applicant's responsibility to ensure that each package is marked with a legible tracking number and to monitor/confirm delivery to EUR via the Internet. EUR will not notify you upon receipt of your application. Delivery of proposal packages may not be made via local courier service or in person for this competition. Faxed documents will not be accepted at any time. Only proposals submitted as stated above will be considered. Applications may not be submitted electronically.

The original and ten copies of the application should be sent to: U.S. Department of State, Office of European and Eurasian Public Affairs, Ref.: EUR/PD Milan Expo 2015, EUR/PD, Room 3249, 2201 C Street NW., Washington, DC 20520.

Applicants must also submit the “Executive Summary” and “Proposal Narrative” sections of the proposal in text (.txt) format on a PC-formatted disk. The Bureau will provide these files electronically to the U.S. Mission in Italy for review.

Application Review Information

Review Process

U.S. citizen, corporation or U.S.-based organization and do not fully adhere to the General Regulations of the Milan Expo 2015 and the guidelines stated herein.

The Bureau will review all proposals for technical eligibility. Proposals will be deemed ineligible if they do not fully adhere to the guidelines stated herein and in the Solicitation Package. The program office, as well as relevant elements of the U.S. Mission in Italy will review all eligible proposals. Eligible proposals will be subject to compliance with Federal and Bureau regulations and guidelines. A panel of senior U.S. Government employees and private sector experts will review eligible proposals. Proposals may also be reviewed by the Office of the Legal Adviser or by other Department elements. The final decision on a potential U.S. private sector partner will be at the discretion of the Department of State's Assistant Secretary for European and Eurasian Affairs.

Review Criteria

Technically eligible proposals will be reviewed according to the criteria stated below. These criteria are not rank-ordered and all carry equal weight in the evaluation.

1. Program planning to achieve exhibit objectives: Proposals should clearly demonstrate how the planned exhibit will educate and inform foreign audiences about the United States and its people and promote broad U.S. commercial interests around the world, as well as how specifically it will address the theme and General Regulations of the Expo. Exhibit objectives should be reasonable, feasible, and flexible.

The general concept for the pavilion structure should include four basic areas: an exhibition area, a food demonstration or exhibition/gift shop area, a VIP hospitality area, and administration/staff lounge area. The proposal should contain a detailed timeline and budget as well as information regarding substantial prior projects that demonstrate fundraising and logistical capacity.

2. Institutional Capacity/Record/Ability: Proposed personnel and institutional resources should be defined and adequate and appropriate to achieve the exhibit's goals. Proposals should demonstrate an institutional record of successful exhibit activities, including responsible fiscal management and full compliance with all BIE-registered Expo requirements. EUR will give serious weight to past performance and demonstrated potential of the staffing proposed for the project.

3. Multiplier effect/impact: Proposals should clearly state how exhibit content and related activities will strengthen long-term mutual understanding between the United States and Italy, and present a positive U.S. image to the international audience.

4. Support of Diversity: Proposals should demonstrate how plans will address EUR's requirement to encourage the involvement of participants from all traditionally underrepresented groups including women, racial and ethnic minorities and people with disabilities.

5. Monitoring and Project Evaluation Plan: Proposals that include a plan to measure the impact of the proposed U.S. exhibition, cultural and information programs are encouraged.

6. Cost-effectiveness: Proposals must include a proposed action plan and timeline for all aspects of the project with associated budget estimates. Proposals must also present a credible fundraising plan to fund all aspects of the USA Pavilion project. Note that prospective donors will be vetted with the State Department for potential conflict of interest.

Reporting Requirements for Chosen Exhibitor

You must provide EUR/PD with a hard copy original plus two copies of the following reports:

1. Program and financial reports every 90 days after the signature of the Memorandum of Understanding.

2. Final program and financial reports no more than 90 days after the expiration of the award;

For Questions About This Announcement, Contact

The Office of European and Eurasian Public Affairs, EUR/PD, Room 3249, Milan Expo 2015, U.S. Department of State, 2201 C Street NW., Washington, DC, 20520; Attention: Barry Levin; Tel.: 202-647-8801; Fax: 202-647-3614; Email: levinbj@state.gov.

Correspondence with the Office concerning this RFP should reference: EUR/PD-Milan Expo 2015.

Notice

The terms and conditions published in this Request for Proposals are binding and may only be modified in writing. Explanatory information provided by EUR that contradicts published language will not be binding. Issuance of this RFP does not constitute an intention to agree to work with any private sector exhibitor at the Milan Expo 2015. EUR reserves the right to select the U.S. private sector partner for Milan Expo 2015 and to approve all elements of the exhibition and project. Decisions made based on indications of interest submitted in response to this RFP will be made in the sole discretion of EUR and will be final.

Dated: July 22, 2013.
Paul Jones,
Acting Assistant Secretary, Bureau of European and Eurasian Affairs, U.S. Department of State.

[FR Doc. 2013-18171 Filed 7-26-13; 8:45 am]

BILLING CODE 4710-23-P